DEPARTMENT OF COMMERCE

National Oceanic and Atmospheric Administration

RIN 0648-XE929

Fisheries of the South Atlantic; Southeast Data, Assessment, and Review (SEDAR); Stock Identification Work Group Post-Meeting Webinar for Atlantic Blueline Tilefish

AGENCY: National Marine Fisheries Service (NMFS), National Oceanic and Atmospheric Administration (NOAA), Commerce.

ACTION: Notice.

SUMMARY: Atlantic stock(s) of blueline tilefish will be assessed through SEDAR 50. This webinar meeting is being held to provide representatives of the Scientific and Statistical Committees (SSC) of the Gulf of Mexico, South Atlantic and Mid-Atlantic Fishery Management Councils an opportunity to review blueline tilefish stock identification recommendations and provide guidance on addressing overlap between the biological stock and Council management boundaries.

DATES: The SEDAR 50 Stock Identification SSC Webinar Review will be held on Friday, October 28, 2016, from 12 p.m. to 3 p.m., to view the agenda see SUPPLEMENTARY INFORMATION.

ADDRESSES: The Webinar is open to the public. Those interested in participating should contact Julia Byrd at SEDAR (see FOR FURTHER INFORMATION CONTACT) to request an invitation providing Webinar access information. Please request Webinar invitations at least 24 hours in advance of the Webinar.

SEDAR Address: South Atlantic Fishery Management Council, 4055 Faber Place Drive, Suite 201, N. Charleston, SC 29405 or at their Web site, at www.sedarweb.org.

FOR FURTHER INFORMATION CONTACT: Julia Byrd, SEDAR Coordinator, 4055 Faber Place Drive, Suite 201, North Charleston, SC 29405; phone (843) 571-4366; email: julia.byrd@safmc.net.

SUPPLEMENTARY INFORMATION:

Agenda

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing Webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: Data collectors and database managers; stock assessment scientists, biologists, and researchers; constituency representatives including fishermen, environmentalists, and non-governmental organizations (NGOs); international experts; and staff of Councils, Commissions, and state and federal agencies.

SEDAR 50 is providing an assessment of Atlantic blueline tilefish. During a Stock Identification Workshop held in July 2016, it was recommended that the western boundary of the Atlantic stock be extended to include the west coast of Florida. The SEDAR Steering Committee, responsible for program oversight and assessment project scheduling, recommended convening a meeting of SSC representatives to consider stock and management unit overlap between the Gulf and South Atlantic Council areas of jurisdiction and provide recommendations on risks to the stock posed by continued management per the Gulf Council jurisdiction. Each Council has identified representatives of its SSC to participate in this meeting.

The items of discussion for the Stock Identification SSC Review via Webinar are as follows:

1. Review the SEDAR 50 Stock Identification Work Group Report (SEDAR50-DW12).

2. Provide advice on the level of overlap between the Atlantic blueline tilefish stock and the management jurisdictions of the Gulf of Mexico and South Atlantic Fishery Management Councils.

3. Provide guidance on the risks associated with management based on the Gulf of Mexico Fishery Management Council boundary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 30, 2016.
Tracey L. Thompson,
Acting Director, Office of Sustainable Fisheries, National Marine Fisheries Service.

[FR Doc. 2016-24051 Filed 10-4-16; 8:45 am]

BILLING CODE 3510-22-P